DEPARTMENT OF COMMERCE

National Oceanic and Atmospheric Administration

[0648-PR-A002]

Endangered Species; File No. 22281

AGENCY: National Marine Fisheries Service (NMFS), National Oceanic and Atmospheric Administration (NOAA), Commerce.

ACTION: Notice; receipt of application.

SUMMARY: Notice is hereby given that Kristen Hart, Ph.D., U.S. Geological Survey, Wetland and Aquatic Research Center, Davie Field Office, 3321 College Ave., Davie, FL 33314, has applied in due form for a permit to take green (Chelonia mydas), Kemp's ridley (Lepidochelys kempii), loggerhead (Caretta caretta), and hawksbill (Eretmochelys imbricata) sea turtles for purposes of scientific research.

DATES: Written, telefaxed, or email comments must be received on or before July 24, 2019.

ADDRESSES: The application and related documents are available for review by selecting “Records Open for Public Comment” from the “Features” box on the Applications and Permits for Protected Species (APPS) home page, https://apps.nmfs.noaa.gov, and then selecting File No. 22281 from the list of available applications.

These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year research permit to determine distribution, seasonal movements, vital rates and habitat use of juvenile, sub-adult, and adult sea turtles in the northern Gulf of Mexico. Researchers would annually capture up to 300 green, 300 loggerhead, 300 Kemp's ridley, and 20 hawksbill sea turtles by hand, trawl, or other nets or obtain sea turtles from relocation trawlers. They may perform the following procedures on animals before release: Morphometrics, carapace mark, photograph/video, flipper and passive integrated transponder tags, skin, fecal, scute and blood sampling, biological swabbing, and lavage. A subset of green, Kemp's ridley, and loggerhead sea turtles also may receive up to three transmitters and be subsequently tracked after release. Researchers may opportunistically recapture these animals for gear removal.

Dated: June 18, 2019.
Julia Marie Harrison,
Chief, Permits and Conservation Division, Office of Protected Resources, National Marine Fisheries Service.

[FR Doc. 2019-13326 Filed 6-21-19; 8:45 am]

BILLING CODE 3510-22-P